DEPARTMENT OF AGRICULTURE

Forest Service

Lolo National Forest; Montana; Center Horse Landscape Restoration EIS

AGENCY: Forest Service, USDA.

ACTION: Notice of intent to prepare an environmental impact statement.

SUMMARY: The Forest Service will prepare an environmental impact statement (EIS) on a proposal to implement restoration activities, including vegetation management, road and trail management, and watershed improvement activities within the Monture, Dunham, Shanley, Cottonwood and Spring Creek drainages, Lolo National Forest, Seeley Lake Ranger District, Powell County, Montana. This EIS will tier to the Lolo National Forest Plan Final EIS (April 1986).

DATES: Comments concerning the scope of the analysis must be received by 30 days from date of publication of this notice in the Federal Register. The draft environmental impact statement is expected May 2013 and the final environmental impact statement is expected March 2014.

ADDRESSES: Send written comments to: Center Horse Landscape Restoration Project Leader, USDA Forest Service, 3583 Highway 83, Seeley Lake, MT 59868. Comments may also be sent via email to comments-northern-lolo-seeley-lake@fs.fed.us or via facsimile to 406-677-3902.

FOR FURTHER INFORMATION CONTACT: Tami Paulsen, Project Leader, (406) 329-3731.

Individuals who use telecommunication devices for the deaf (TDD) may call the Federal Information Relay Service (FIRS) at 1-800-877-8339 between 8 a.m. and 8 p.m., Eastern Time, Monday through Friday.

SUPPLEMENTARY INFORMATION:

Purpose and Need for Action

The Center Horse Landscape Restoration Project is being designed to: (1) Improve/restore forest composition, spatial arrangement and structure, (2) restore fire adapted ecosystems, (3) improve water quality, restore or enhance fish and wildlife habitat, and conserve and improve soil resources, and (4) right size the existing transportation network to meet public and administrative needs while at the same time eliminating unneeded or environmentally impactive roads and trails.

Proposed Action

The Center Horse Landscape Restoration project area of approximately 61,300 acres is located east of Seeley Lake, Montana within T16N, R11W; T16N, R12W; T16N, R13W; T16N, R14W; T17N, R12W; T17N, R13W, T17N, R14W, P.M.M. Within this area, the Lolo National Forest proposes the following activities to achieve the purpose and need for the project: (1) Timber harvest and prescribed burning on approximately 5000 acres; (2) Commercial/non-commercial mechanical vegetation treatments and prescribed burning on about 1500 acres; (3) Precommercial thinning and prescribed burning on about 1325 acres; (4) Ecosystem maintenance burning preceded by hand slashing on approximately 8650 acres; (5) whitebark pine restoration on about 70 acres; (6) temporary road construction (about 5 miles); (7) re-route 5 road segments to improve fish habitat; (8) add existing roads to system (about 23.5 miles), add existing roads to system and store (about 8 miles), construct system road for re-route (about 2.5 miles), convert road to trail (about 10 miles), road decommissioning (about 160 miles), reconstruct road and add to system for alternate route (about 2.5 miles), reconstruct system road for alternate route (about 0.5 miles), store existing system road (about 7 miles), and change travel management (about 0.5 miles); (9) development and rehabilitation work at two existing gravel pits; (10) culvert replacements/removals; (11) evaluate 40 miles of user created non-system trails for inclusion into trail system inventory; (12) weed treatment, (13) soil resource improvement projects including weed treatment, landing and skid trail rehabilitation, and shrub and tree planting.

If, after the completion of the environmental analysis and review of public comments the Responsible Official decides to select an action alternative, implementation could begin in 2015 and would continue for several years.

Responsible Official

Lolo National Forest Supervisor.

Nature of Decision To Be Made

The Forest Supervisor will decide whether to implement the proposed action, take an alternative action that meets the purpose and need, or take no action. A site-specific amendment to the Lolo National Forest Plan is not anticipated.

Preliminary Issues

Preliminray issues include: (1) A significant portion of this analysis area is in the Bear-Marshall-Scapegoat-Swan Inventoried Roadless Area. While only noncommercial treatments ((i.e., ecosystem maintenance burning with incidental slashing (about 5,220 acres) and road decommissioning (about 3.2 miles)) are proposed in this IRA. Treatments in IRAs can be controversial; (2) Proposed activities could affect wildlife and wildlife habitat. Portions of the analysis area are within Lynx Analysis Units and the Northern Continental Divide Ecosystem Grizzly Bear Recovery Area; and, (3) The analysis area includes new acquisitions which need considerable restoration, particularly in terms of current numbers of roads, amount of invasive species, and altered forest conditions. They also present challenges due to limited availability of survey and inventory data and possible access limitations.

Permits or Licenses Required

Montana Stream Preservation Action—124 permit for instream work.

Scoping Process

This notice of intent initiates the scoping process, which guides the development of the environmental impact statement. Information on the proposed action will be posted on the forest Web site at: fs.usda.gov/lolo. A public meeting will be held on July 26, 2012 at 4:00 to 7:00 p.m. at the Ovando Fire Hall (700 Pine St., Ovando, MT) about the proposed project.

It is important that reviewers provide their comments at such times and in such manner that they are useful to the agency's preparation of the environmental impact statement. Therefore, comments should be provided prior to the close of the comment period and should clearly articulate the reviewer's concerns and contentions.

Comments received in response to this solicitation, including names and addresses of those who comment, will be part of the public record for this proposed action. Comments submitted anonymously will be accepted and considered, however.

Dated: July 16, 2012.
Beverly A. Yelczyn,
Acting Forest Supervisor.

[FR Doc. 2012-17890 Filed 7-20-12; 8:45 am]

BILLING CODE 3410-11-P